U.S. DEPARTMENT OF COMMERCE

Foreign-Trade Zones Board

Order No. 1396

Expansion of Foreign-Trade Zone 141, Monroe County, New York, Area

Pursuant to its authority under the Foreign-Trade Zones Act of June 18, 1934, as amended (19 U.S.C. 81a-81u), the Foreign-Trade Zones Board adopts the following Order:

Whereas, the County of Monroe, New York, grantee of Foreign-Trade Zone 141, submitted an application to the Board for authority to expand FTZ 141 to include a site (Site 11- 314 acres) at Rochester Technology Park, 789 Elmgrove Road, Rochester (Monroe County), New York, and to remove this area from Site 4 of FTZ 141A (Kodak), within the Rochester Customs port of entry (FTZ Docket 52-2004; filed 11/17/04);

Whereas, notice inviting public comment was given in the Federal Register (69 FR 68127, 11/23/04), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 141 is approved, subject to the Act and the Board's regulations, including Section 400.28.

Signed at Washington, DC, this 9th day of June, 2005.

Joseph A. Spetrini,
Acting Assistant Secretary of Commerce for Import Administration, Alternate Chairman, Foreign-Trade Zones Board
Attest:
Dennis Puccinelli,
Executive Secretary.

[FR Doc. 05-12368 Filed 6-21-05; 8:45 am]

BILLING CODE 3510-DS-S